DEPARTMENT OF THE INTERIOR

National Park Service

[2253-665]

Notice of Inventory Completion: California State University, Sacramento, Sacramento, CA

AGENCY: National Park Service, Interior.

ACTION: Notice.

Notice is here given in accordance with the Native American Graves Protection and Repatriation Act (NAGPRA), 25 U.S.C. 3003, of the completion of an inventory of human remains and associated funerary objects in the possession of California State University, Sacramento, Sacramento, CA. The human remains and associated funerary objects were removed from Site CA-SAC-16, Sacramento County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

A detailed assessment of the human remains was made by California State University, Sacramento, professional staff in consultation with representatives of the Buena Vista Rancheria of Me-Wuk Indians of California; Cortina Indian Rancheria of Wintun Indians of California; Ione Band of Miwok Indians of California; Shingle Springs Band of Miwok Indians, Shingle Springs Rancheria (Verona Tract), California; and United Auburn Indian Community of the Auburn Rancheria of California, as well as the non-Federally recognized Indian groups of the El Dorado Miwok Tribe and Nashville-El Dorado Miwok. The Wilton Rancheria, California, and Yocha Dehe Wintun Nation, California (formerly the Rumsey Indian Rancheria of Wintun Indians of California) were also contacted, but did not participate in consultation on the human remains and associated funerary objects described in this notice.

At an unknown time in the 1930s, human remains representing a minimum of four individuals were removed from private property on Site CA-SAC-16, in Sacramento County, CA. The human remains were in the possession of Anthony Zallio, the collector. In 1951, the human remains, along with the rest of the Zallio Collection, were donated to Sacramento State College (now California State University, Sacramento). No known individuals were identified. No associated funerary objects are present.

In 1953, human remains representing a minimum of two individuals were removed from private property on Site CA-SAC-16, in Sacramento County, CA, during an excavation project. Faculty and students from Sacramento State College conducted the excavation. One additional individual is either missing from the collection or was not collected from the field. No known individuals were identified. The 583 associated funerary objects are 545 beads, 5 bags of debitage, 17 bags of faunal material, 2 modified faunal bones, 8 ornaments, and 6 projectile points. Eight additional associated funerary objects (three beads and five projectile points) are missing.

From 1961 to 1971, human remains representing a minimum of 89 individuals were removed from private property on Site CA-SAC-16, in Sacramento County, CA, during an excavation project. Faculty and students from American River College conducted the salvage excavation. The collection was later transferred to California State University, Sacramento. Seven additional individuals are either missing or were not collected from the field. No known individuals were identified. The one associated funerary object is a baked clay net sinker. Eight additional associated funerary objects (seven beads and one projectile point) are missing.

In 1971, human remains representing a minimum of 26 individuals were removed from private property on Site CA-SAC-16, in Sacramento County, CA, during a salvage excavation project. Faculty and students from Sacramento State College conducted the salvage excavation. Thirteen additional individuals are either missing or were not collected from the field. No known individuals were identified. The 2,867 associated funerary objects are 2 bone awls, 22 bags of baked clay, 2,747 beads, 1 bone tube, 3 bags of carbonized material, 12 bags of debitage, 17 bags of faunal material, 1 piece of glass, 8 bags of grave fill, 2 pieces of metal, 10 modified faunal bones, 29 ornaments, 6 projectile points, 6 stone tools, and 1 whistle. Thirty-two additional associated funerary objects (4 bone awls, 2 bags of baked clay, 2 beads, 1 biface, 1 bone tube, 1 bag of carbonized material, 1 bag of debitage, 15 bags of faunal material, 2 fire cracked rocks, 2 modified faunal bones, and 1 whistle) are missing.

In 1990, human remains representing two individuals were removed from Site CA-SAC-16, in Sacramento County, CA, during a test excavation project. The Far Western Anthropological Research Group Inc. conducted the test excavation. In 1991, the remains were deposited at the university. No known individuals were identified. No associated funerary objects are present.

The artifact types and burial practices observed at Site CA-SAC-16 indicate that it was first occupied during the Middle Horizon, and was inhabited into the Historic Period. The presence of rough disk Olivella beads and glass trade beads associated with the Hudson Bay fur trappers suggests that some burials may date to the 1830s, when an epidemic attributed to malaria spread among Native populations along the Sacramento River. The lack of archaeological and historical evidence for occupation of the site after the epidemic provides circumstantial support that the site was abandoned at this time. The surviving occupants of the site may have joined with neighboring groups to the south (in the vicinity of Sacramento), to the north (Verona), and to the east (in the foothills).

Archeological evidence indicates that the lower Sacramento Valley and Delta regions were continuously occupied since at least the Early Horizon (5550-550 B.C.). Cultural changes indicated by artifact typologies and burial patterns, historical linguistic evidence, and biological evidence reveal that the populations in the region were not static, with both in situ cultural changes and migrations of outside populations into the area. Linguistic evidence suggests that ancestral-Penutian speaking groups related to modern day Miwok, Nisenan, and Patwin groups occupied the region during the Middle (550 B.C.-A.D. 1100) and Late (A.D. 1100—Historic) Horizons, with some admixing between these groups and Hokan-speaking groups that occupied the region at an earlier date. The genetic data suggests that the Penutians may have arrived later than suggested by the linguistic evidence.

Geographical data from ethnohistoric and ethnographic sources indicate that the site was most likely occupied by Nisenan-speaking groups at the beginning of the Historic Period, while Patwin-speakers occupied the valley west of the Sacramento River and Miwok-speakers resided south of the American River. Ethnographic data and expert testimony from the tribal representatives support the high level of interaction between groups in the lower Sacramento Valley and Delta regions that crosscut linguistic boundaries. Historic population movements resulted in an increased level of shifting among populations, especially among the Miwok and Nisenan, who were impacted by disease and Euro-American activities relating to Sutter's Fort and later gold-rush activities.

In summary, officials of California State University, Sacramento, together with the University's College of Social Sciences and Interdisciplinary Studies Committee on Native American Graves Protection and Repatriation Act Compliance (SSIS NAGPRA Committee), reasonably believe that the ethnographic, historical, and geographical evidence indicates that the historic burials and cultural items recovered from Site CA-SAC-16 are most closely affiliated with contemporary descendants of the Nisenan, and have more distant ties to neighboring groups, such as the Plains Miwok. Furthermore, the earlier cultural items from the Middle and Late Horizons share cultural relations with the Nisenan and Plains Miwok based on archeological, biological, and historical linguistic evidence.

Officials of California State University, Sacramento, have determined, pursuant to 25 U.S.C. 3001(9), the human remains described above represent a minimum of 123 individuals of Native American ancestry. Officials of California State University, Sacramento, also have determined, pursuant to 25 U.S.C. 3001(3)(A), that the 3,451 objects described above are reasonably believed to have been placed with or near individual human remains at the time of death or later as part of the death rite or ceremony. Lastly, officials of California State University, Sacramento, have determined, pursuant to 25 U.S.C. 3001(2), that there is a relationship of shared group identity that can be reasonably traced between the Native American human remains and associated funerary objects and the Buena Vista Rancheria of Me-Wuk Indians of California; Ione Band of Miwok Indians of California; Shingle Springs Band of Miwok Indians, Shingle Springs Rancheria (Verona Tract), California; United Auburn Indian Community of the Auburn Rancheria of California; and Wilton Rancheria, California, as well as the non-Federally recognized Indian groups of the El Dorado Miwok Tribe and Nashville-El Dorado Miwok.

Representatives of any other Indian tribe that believes itself to be culturally affiliated with the human remains and associated funerary objects should contact Charles Gossett, Dean of the College of Social Sciences and Interdisciplinary Studies, CSUS, 6000 J St., Sacramento, CA 95819-6109, telephone: (916) 278-6504, before April 14, 2011. Repatriation of the human remains and associated funerary objects to the Buena Vista Rancheria of Me-Wuk Indians of California; Ione Band of Miwok Indians of California; Shingle Springs Band of Miwok Indians, Shingle Springs Rancheria (Verona Tract), California; United Auburn Indian Community of the Auburn Rancheria of California; and Wilton Rancheria, California, may proceed after that date if no additional claimants come forward.

California State University, Sacramento, is responsible for notifying the Buena Vista Rancheria of Me-Wuk Indians of California; Cortina Indian Rancheria of Wintun Indians of California; Ione Band of Miwok Indians of California; Shingle Springs Band of Miwok Indians, Shingle Springs Rancheria (Verona Tract), California; United Auburn Indian Community of the Auburn Rancheria of California; Wilton Rancheria, California; and Yocha Dehe Wintun Nation, California, as well as the non-federally recognized Indian groups of the El Dorado Miwok Tribe and Nashville-El Dorado Miwok that this notice has been published.

Dated: March 9, 2011.
Sherry Hutt,
Manager, National NAGPRA Program.

[FR Doc. 2011-5875 Filed 3-14-11; 8:45 am]

BILLING CODE 4312-50-P